DEPARTMENT OF TRANSPORTATION

Federal Aviation Administration

Twenty-Third Meeting: RTCA Special Committee 216, Aeronautical Systems Security (Joint Meeting With EUROCAE WG-72)

AGENCY: Federal Aviation Administration (FAA), U.S. Department of Transportation (DOT).

ACTION: Meeting Notice of RTCA Special Committee 216, Aeronautical Systems Security (Joint Meeting with EUROCAE WG-72).

SUMMARY: The FAA is issuing this notice to advise the public of the twenty-third meeting of RTCA Special Committee 216, Aeronautical Systems Security (Joint Meeting with EUROCAE WG-72).

DATES: The meeting will be held April 8-9, 2014 from 9:00 a.m.-5:00 p.m. but ending at 3:00 p.m. on the last day.

ADDRESSES: The meeting will be held at RTCA Headquarters, 1150 18th Street NW., Suite 910, Washington, DC 20036.

FOR FURTHER INFORMATION CONTACT: You may contact the RTCA Secretariat, 1150 18th Street NW., Suite 910, Washington, DC 20036, or by telephone at (202) 833-9339, fax at (202) 833-9434, or Web site http://www.rtca.org for directions.

SUPPLEMENTARY INFORMATION: Pursuant to section 10(a)(2) of the Federal Advisory Committee Act (Pub. L. 92-463, 5 U.S.C., App.), notice is hereby given for a meeting of Special Committee 216.

This important plenary meeting will start at 9:00 a.m. on the first day and to finish by 5:00 p.m. on the last day.

The main purpose of the meeting is to finalize disposition of any remaining public comments from the FRAC period on revised ED-202/DO-326 and ED-204/DO-yy4, and to hold a committee vote on whether these two documents are ready for publication.

Eurocae WG-72 will meet simultaneously in Europe and hold their own vote. The two committees intend to communicate via teleconference during the meeting to ensure coordination.

Logistical information: Directions and Hotel information for RTCA is located on the Web site— http://www.rtca.org—Directions to RTCA.

RSVP: Please inform Derek Schatz (derek.p.schatz@boeing.com), Dan Johnson (daniel.p.johnson@honeywell.com), or Chuck Royalty (chuck.royalty@boeing.com) of your intention to attend the meeting. The agenda will include the following:

April 8

• Welcome (Committee chairs)

• Introductions, logistics

• Plenary Session:

• Review/Approval of the Twenty-Second Meeting Summary, RTCA Paper No. 238-13/SC216-047.

• RTCA PMC Report

• FAA Status Report

• Coordination between drafting groups

• Subgroup Breakouts—if needed

• Review any remaining document comments

April 9

• Additional Subgroup Breakouts—if needed

• Review Any Remaining Document Comments

• Reconvene Plenary for Status

• Review Schedule

• Review/Approval—Revised DO-326—Airworthiness Security Process Specification, RTCA Paper No. 239-13/SC216-048.

• Review/Approval—New Document, Information Security Guidance for Continuing Airworthiness, RTCA Paper No. 240-13/SC216-049.

• Adjourn

Note: Subgroup 2 may continue to meet separately from this meeting on April 10th in order to continue work on DO-yy3/ED-203. Those interested in this document are encouraged to remain and participate.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 18, 2014.
Paige Williams,
Management Analyst, NextGen, Business Operations Group, Federal Aviation Administration.

[FR Doc. 2014-06359 Filed 3-21-14; 8:45 am]

BILLING CODE 4910-13-P